DEPARTMENT OF HOMELAND SECURITY

Federal Emergency Management Agency

44 CFR Part 65

[Docket ID FEMA-2010-0003; Internal Agency Docket No. FEMA-B-1156]

Changes in Flood Elevation Determinations

AGENCY: Federal Emergency Management Agency, DHS.

ACTION: Interim rule.

SUMMARY: This interim rule lists communities where modification of the Base (1% annual-chance) Flood Elevations (BFEs) is appropriate because of new scientific or technical data. New flood insurance premium rates will be calculated from the modified BFEs for new buildings and their contents.

DATES: These modified BFEs are currently in effect on the dates listed in the table below and revise the Flood Insurance Rate Maps (FIRMs) in effect prior to this determination for the listed communities.

From the date of the second publication of these changes in a newspaper of local circulation, any person has ninety (90) days in which to request through the community that the Deputy Federal Insurance and Mitigation Administrator reconsider the changes. The modified BFEs may be changed during the 90-day period.

ADDRESSES: The modified BFEs for each community are available for inspection at the office of the Chief Executive Officer of each community. The respective addresses are listed in the table below.

FOR FURTHER INFORMATION CONTACT: Luis Rodriguez, Chief, Engineering Management Branch, Federal Insurance and Mitigation Administration, Federal Emergency Management Agency, 500 C Street, SW., Washington, DC 20472, (202) 646-4064, or (e-mail) luis.rodriguez1@dhs.gov.

SUPPLEMENTARY INFORMATION: The modified BFEs are not listed for each community in this interim rule. However, the address of the Chief Executive Officer of the community where the modified BFE determinations are available for inspection is provided.

Any request for reconsideration must be based on knowledge of changed conditions or new scientific or technical data.

The modifications are made pursuant to section 201 of the Flood Disaster Protection Act of 1973, 42 U.S.C. 4105, and are in accordance with the National Flood Insurance Act of 1968, 42 U.S.C. 4001 et seq., and with 44 CFR part 65.

For rating purposes, the currently effective community number is shown and must be used for all new policies and renewals.

The modified BFEs are the basis for the floodplain management measures that the community is required either to adopt or to show evidence of being already in effect in order to qualify or to remain qualified for participation in the National Flood Insurance Program (NFIP).

These modified BFEs, together with the floodplain management criteria required by 44 CFR 60.3, are the minimum that are required. They should not be construed to mean that the community must change any existing ordinances that are more stringent in their floodplain management requirements. The community may at any time enact stricter requirements of its own or pursuant to policies established by other Federal, State, or regional entities. The changes in BFEs are in accordance with 44 CFR 65.4.

National Environmental Policy Act. This interim rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This interim rule is not a significant regulatory action under the criteria of section 3(f) of Executive Order 12866 of September 30, 1993, Regulatory Planning and Review, 58 FR 51735.

Executive Order 13132, Federalism. This interim rule involves no policies that have federalism implications under Executive Order 13132, Federalism.

Executive Order 12988, Civil Justice Reform. This interim rule meets the applicable standards of Executive Order 12988.

List of Subjects in 44 CFR Part 65

Flood insurance, Floodplains, Reporting and recordkeeping requirements.

Accordingly, 44 CFR part 65 is amended to read as follows:

PART 65—[AMENDED]

1. The authority citation for part 65 continues to read as follows:

Authority: 42 U.S.C. 4001 et seq.; Reorganization Plan No. 3 of 1978, 3 CFR, 1978 Comp., p. 329; E.O. 12127, 44 FR 19367, 3 CFR, 1979 Comp., p. 376.

§ 65.4 [Amended]

2. The tables published under the authority of § 65.4 are amended as follows:

State and county | Location and case No. | Date and name of newspaper where notice was published | Chief executive officer of community | Effective date of modification | Community No.
Arizona: Cochise | City of Sierra Vista (10-09-2513P) | August 11, 2010, August 18, 2010, Sierra Vista Herald | The Honorable Bob Strain, Mayor, City of Sierra Vista, 1011 North Coronado Drive, Sierra Vista, AZ 85635 | August 30, 2010 | 040017
Arizona: Maricopa | Town of Gilbert (10-09-0572P) | August 12, 2010, August 19, 2010, Arizona Business Gazette | The Honorable John Lewis, Mayor, Town of Gilbert, 50 East Civic Center Drive, Gilbert, AZ 85296 | July 30, 2010 | 040044
Arizona: Maricopa | City of Goodyear (10-09-1335P) | August 5, 2010, August 12, 2010, Arizona Business Gazette | The Honorable James M. Cavanaugh, Mayor, City of Goodyear, P.O. Box 5100, Goodyear, AZ 85338 | July 30, 2010 | 040046
Arizona: Pima | City of Tucson (10-09-1751P) | July 23, 2010, July 30, 2010, Arizona Daily Star | The Honorable Bob Walkup, Mayor, City of Tucson, City Hall, 255 West Alameda, Tucson, AZ 85701 | July 13, 2010 | 040076
Arizona: Pinal | City of Casa Grande (10-09-1348P) | July 23, 2010, July 30, 2010, Casa Grande Dispatch | The Honorable Robert M. Jackson, Mayor, City of Casa Grande, 510 East Florence Boulevard, Casa Grande, AZ 85122 | August 11, 2010 | 040080
Arizona: Pinal | Town of Mammoth (10-09-1056P) | July 31, 2010, August 7, 2010, Casa Grande Dispatch | The Honorable Craig Williams, Mayor, Town of Mammoth, P.O. Box 404, Mammoth, AZ 85618 | December 6, 2010 | 040086
Arizona: Pinal | Unincorporated areas of Pinal County (10-09-1056P) | July 31, 2010, August 7, 2010, Casa Grande Dispatch | The Honorable Pete Rios, Chairman, Pinal County Board of Supervisors, P.O. Box 827, Florence, AZ 85132 | December 6, 2010 | 040077
California: Sacramento | Unincorporated areas of Sacramento County (10-09-1947P) | August 11, 2010, August 18, 2010, The Sacramento Bee | The Honorable Roger Dickinson, Chairman, Sacramento County Board of Supervisors, 700 H Street, Suite 2450, Sacramento, CA 95814 | December 16, 2010 | 060262
California: San Diego | City of Oceanside (10-09-1317P) | August 2, 2010, August 9, 2010, North County Times | The Honorable Jim Wood, Mayor, City of Oceanside, 300 North Coast Highway, Oceanside, CA 92054 | July 26, 2010 | 060294
Colorado: Eagle | Unincorporated areas of Eagle County (10-08-0478P) | September 2, 2010, September 9, 2010, The Eagle Valley Enterprise | The Honorable Sara Fisher, Chairman, Eagle County Board of Commissioners, P.O. Box 850, Eagle, CO 81631 | August 25, 2010 | 080051
Colorado: Summit | Unincorporated areas of Summit County (10-08-0513P) | August 6, 2010, August 13, 2010, Summit County Journal | The Honorable Bob French, Chairman, Summit County Board of Commissioners, P.O. Box 68, Breckenridge, CO 80424 | July 30, 2010 | 080290
Florida: Hillsborough | Unincorporated areas of Hillsborough County (10-04-4807P) | August 2, 2010, August 9, 2010, The Tampa Tribune | The Honorable Ken Hagan, Chairman, Hillsborough County Board of Commissioners, P.O. Box 1110, Tampa, FL 36601 | July 22, 2010 | 120112
Florida: Lee | City of Cape Coral (10-04-0289P) | August 27, 2010, September 3, 2010, Fort Myers News-Press | The Honorable John Sullivan, Mayor, City of Cape Coral, P.O. Box 150027, Cape Coral, FL 33915 | January 3, 2011 | 125095
Florida: Lee | Unincorporated areas of Lee County (10-04-0289P) | August 27, 2010, September 3, 2010, Fort Myers News-Press | Ms. Tammy Hall, Chair, Lee County Board of County, Commissioners, P.O. Box 398, Ft. Myers, FL 33902 | January 3, 2011 | 125124
Florida: Polk | City of Lakeland (10-04-4064P) | August 11, 2010, August 18, 2010, The Ledger | The Honorable Gow Fields, Mayor, City of Lakeland, 228 South Massachusetts Avenue, Lakeland, FL 33801 | July 30, 2010 | 120267
Florida: St. Johns | Unincorporated areas of St. Johns County (10-04-2018P) | July 26, 2010, August 2, 2010, St. Augustine Record | Mr. Michael Wanchick, County Administrator, St. Johns County, 500 San Sebastian View, St. Augustine, FL 32084 | July 21, 2010 | 125147
Mississippi: Rankin | City of Flowood (10-04-5433P) | August 20, 2010, August 27, 2010, The Clarion-Ledger | The Honorable Gary Rhoads, Mayor, City of Flowood, P.O. Box 320069, Flowood, MS 39232 | August 10, 2010 | 280289
Montana: Cascade | Unincorporated areas of Cascade County (10-08-0429P) | August 10, 2010, August 17, 2010, Great Falls Tribune | The Honorable Joe Briggs, Chairman, Cascade County Board of Commissioners, 325 2nd Avenue North, Great Falls, MT 59401 | December 15, 2010 | 300008
North Carolina: Cumberland | Town of Hope Mills (10-04-0445P) | July 26, 2010, August 2, 2010, Fayetteville Observer | The Honorable Eddie Dees, Mayor, Town of Hope Mills, 5770 Rockfish Road, Hope Mills, NC 28348 | November 30, 2010 | 370312
North Carolina: Cumberland | Unincorporated areas of Cumberland County (10-04-0445P) | July 26, 2010, August 2, 2010, Fayetteville Observer | Mr. James E. Martin, Manager, Cumberland County, 117 Dick Street, Room 512, Fayetteville, NC 28301 | November 30, 2010 | 370076
North Carolina: Pitt | City of Greenville (10-04-3020P) | August 23, 2010, August 30, 2010, The Daily Reflector | The Honorable Patricia C. Dunn, Mayor, City of Greenville, P.O. Box 7207, Greenville, NC 27835 | December 28, 2010 | 370191
North Carolina: Pitt | City of Greenville (10-04-3296P) | August 19, 2010, August 26, 2010, The Daily Reflector | The Honorable Patricia C. Dunn, Mayor, City of Greenville, P.O. Box 7207, Greenville, NC 27835 | August 12, 2010 | 370191
North Carolina: Wake | Unincorporated areas of Wake County, (09-04-7036P) | July 29, 2010, August 5, 2010, The News & Observer | Mr. David Cooke, Manager, Wake County, P.O. Box 550, Greenville, NC 27602 | December 3, 2010 | 370368
South Carolina: Chester | Unincorporated areas of Chester County (10-04-4509P) | August 20, 2010, August 27, 2010, News & Reporter | The Honorable R. Carlisle Roddey, Chairman, Chester County Council, P.O. Box 580, Chester, SC 29706 | December 27, 2010 | 450047
South Carolina: Dorchester | City of North Charleston (10-04-1595P) | August 19, 2010, August 26, 2010, The Post and Courier | The Honorable R. Keith Summey, Mayor, City of North Charleston, 2500 City Hall Lane, North Charleston, SC 29406 | September 10, 2010 | 450042
South Dakota: Lincoln | Unincorporated areas of Lincoln County (10-08-0327P) | August 19, 2010, August 26, 2010, Lennox Independent | The Honorable Jim Schmidt, Chairman, Lincoln County Board of Commissioners, 104 North Main Street, Canton, SD 57013 | December 24, 2010 | 460277
Texas: Wichita | City of Wichita Falls (10-06-1225P) | August 20, 2010, August 27, 2010, Wichita Falls Times Record News | The Honorable Glenn Barham, Mayor, City of Wichita Falls, P.O. Box 1431, Wichita Falls, TX 76307 | December 27, 2010 | 480662
Utah: Washington | City of LaVerkin (10-08-0578P) | August 20, 2010, August 27, 2010, The Spectrum | The Honorable Karl Wilson, Mayor, City of LaVerkin, 111 South Main Street, LaVerkin, UT 84745 | August 11, 2010 | 490174
Utah: Washington | Town of Toquerville (10-08-0578P) | August 20, 2010, August 27, 2010, The Spectrum | The Honorable Darrin LeFevre, Mayor, Town of Toquerville, P.O. Box 27, Toquerville, UT 84774 | August 11, 2010 | 490180

(Catalog of Federal Domestic Assistance No. 97.022, “Flood Insurance.”)

Dated: December 3, 2010.
Sandra K. Knight,
Deputy Federal Insurance and Mitigation Administrator, Mitigation, Department of Homeland Security, Federal Emergency Management Agency.

[FR Doc. 2010-31509 Filed 12-15-10; 8:45 am]

BILLING CODE 9110-12-P